FEDERAL EMERGENCY MANAGEMENT AGENCY

44 CFR Part 67

[Docket No. FEMA-7310]

Proposed Flood Elevation Determinations

AGENCY: Federal Emergency Management Agency (FEMA).

ACTION: Proposed rule.

SUMMARY: Technical information or comments are requested on the proposed base (1% annual chance) flood elevations and proposed base flood elevation modifications for the communities listed below. The base flood elevations and modified base flood elevations are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed base flood elevations for each community are available for inspection at the office of the Chief Executive Officer of each community. The respective addresses are listed in the following table.

FOR FURTHER INFORMATION CONTACT: Matthew B. Miller, P.E., Chief, Hazards Study Branch, Mitigation Directorate, 500 C Street SW., Washington, DC 20472, (202) 646-3461, or (e-mail) matt.miller@fema.gov.

SUPPLEMENTARY INFORMATION: The Federal Emergency Management Agency proposes to make determinations of base flood elevations and modified base flood elevations for each community listed below, in accordance with Section 110 of the Flood Disaster Protection Act of 1973, 42 U.S.C. 4104, and 44 CFR 67.4(a).

These proposed base flood and modified base flood elevations, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

National Environmental Policy Act

This proposed rule is categorically excluded from the requirements of 44 CFR Part 10, Environmental Consideration. No environmental impact assessment has been prepared.

Regulatory Flexibility Act

The Associate Director for Mitigation certifies that this proposed rule is exempt from the requirements of the Regulatory Flexibility Act because proposed or modified base flood elevations are required by the Flood Disaster Protection Act of 1973, 42 U.S.C. 4104, and are required to establish and maintain community eligibility in the NFIP. No regulatory flexibility analysis has been prepared.

Regulatory Classification

This proposed rule is not a significant regulatory action under the criteria of Section 3(f) of Executive Order 12866 of September 30, 1993, Regulatory Planning and Review, 58 FR 51735.

Executive Order 12612, Federalism

This proposed rule involves no policies that have federalism implications under Executive Order 12612, Federalism, dated October 26, 1987.

Executive Order 12778, Civil Justice Reform

This proposed rule meets the applicable standards of Section 2(b)(2) of Executive Order 12778.

List of Subjects in 44 CFR Part 67

Administrative practice and procedure, Flood insurance, Reporting and recordkeeping requirements.

Accordingly, 44 CFR Part 67 is proposed to be amended as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376. § 67.4

2. The tables published under the authority of § 67.4 are proposed to be amended as follows:

§ 67.4 [Amended]

State | City/town/county | Source of flooding | Location | # Depth in feet above ground. *Elevation in feet. (NGVD): Existing | # Depth in feet above ground. *Elevation in feet. (NGVD): Modified
Arizona | Santa Cruz County (Unincorporated Areas) | Tubac Creek | At confluence with Santa Cruz River | None | *3,192
|  |  | Approximately 0.35 mile (1,850 feet) upstream of Interstate 19 | None | *3,263
|  | Tubac Creek North Channel | At confluence with Santa Cruz River | None | *3,189
|  |  | At divergence from Tubac Creek approximately 680 feet upstream of Calle De Olivas | None | *3,251
|  | Tributary 1 of Tubac Creek | At confluence with Tubac Creek | None | *3,213
|  |  | At approximately 0.229 mile (1,210 feet) upstream of Interstate 19 | None | *3,250
|  | Tributary 2 of Tubac Creek | At confluence with Tubac Creek | None | *3,195
|  |  | Immediately downstream of East Frontage Road | None | 3,222
Maps are available for inspection at Floodplain Administrator, 2150 N. Congress Drive, Nogales, Arizona.
Send comments to The Honorable Dennis Miller, County Manager, 2150 N. Congress Drive, Nogales, Arizona 85621.
Iowa | Johnston (City) Polk County | Beaver Creek | Approximately 1,550 feet above its confluence with Des Moines River | None | *805
|  |  | At NW 70th Avenue | *822 | *824
Maps are available for inspection at City Hall, 6221 Merle Hay Road, Johnston, Iowa.
Send comments to The Honorable Dallas Patterson, Mayor, City of Johnston, P.O. Box 410, Johnston, Iowa 50131.
Iowa | Urbandale (City) Polk County | Beaver Creek | Approximately 1,000 feet upstream of Merle Hay Road | *800 | *811
|  |  | Approximately 3,600 feet upstream of Merle Hay Road | *810 | *812
Maps are available for inspection at Community Development Department, City Hall, 3315 70th Street, Urbandale, Iowa.
Send comments to The Honorable Brad Zaun, Mayor, City of Urbandale, 3315 70th Street, Urbandale, Iowa 50322.
Louisiana | Tangipahoa Parish (Unincorporated Areas) | Ponchatoula Creek | At Old Genessee Road | None | *54
|  |  | Approximately 1,100 feet from confluence with Ponchatoula Creek Tributary 2 | None | *60
|  | Ponchatoula Creek Tributary 1 | At confluence with Ponchatoula Creek | None | *55
|  |  | Approximately 3,300 feet upstream from confluence with Ponchatoula Creek | None | *57
|  | Ponchatoula Creek Tributary 2 | At confluence with Ponchatoula Creek | None | *58
|  |  | Approximately 2,200 feet upstream from confluence with Ponchatoula Creek | None | *60
Maps are available for inspection at Parish Permit Office, 15481 Club Deluxe Road, Hammond, Louisiana.
Send comments to The Honorable Gordon Burgess, Parish President, P.O. Box 215, Amite, Louisiana 70422.
Louisiana | Village of Tickfaw (Tangipahoa Parish) | Ponchatoula Creek | Approximately 2,950 feet downstream from Highway 442 | None | *60
|  |  | At Niccio Road | None | *65
|  | Ponchatoula Creek Tributary 1 | Approximately 1,100 feet downstream from the Illinois Central Gulf Railroad | None | *57
|  |  | Approximately 3,000 feet upstream from State Highway 442 | None | *63
|  | Ponchatoula Creek Tributary 2 | Approximately 1,800 feet downstream from Chapel Road | None | *60
|  |  | At Chapel Road | None | *61
Maps are available for inspection at City Hall, 50081 Highway 51, Tickfaw, Louisiana.
Send comments to The Honorable Anthony Lamonte, Mayor, Village of Tickfaw, P.O. Box 249, Tickfaw, Louisiana 70466.
Louisiana | West Baton Rouge Parish and Incorporated Areas | Lateral 1-C | At the confluence with the Gulf Intracoastal Waterway | *9 | *9
|  |  | At intersection with Interstate 10 | *11 | *10
|  |  | At intersection with State Highway 986 | *17 | *16
|  | Oaks Avenue Canal | At the confluence with the Gulf Intracoastal Waterway | None | *10
|  |  | Just upstream of LeBlanc Road | None | *19
|  | Oaks Avenue Canal Tributary No. 1 | At the confluence with Oaks Avenue Canal | None | *10
|  |  | Just upstream of South Jefferson Avenue | None | *25
Maps are available for inspection at Parish Zoning Office, 880 North Alexander, Port Allen, Louisiana.
Send comments to The Honorable Ted Denster, Parish President, P.O. Box 757, Port Allen, Louisiana 70767.
Maps are available for inspection at City Hall, 750 N. Jefferson Avenue, Port Allen, Louisiana.
Send comments to The Honorable Marilyn Robertson, Mayor, City of Port Allen, 750 N. Jefferson Avenue, Port Allen, Louisiana 70767.
Missouri | Creve Coeur (City) St. Louis County | Monsanto Sunswept Creek | Approximately 950 feet downstream of Private Bridge | *531 | *532
|  |  | Just upstream of Chilton Lane | None | *561
Maps are available for inspection at City Hall, 300 North New Ballas Road, Creve Coeur, Missouri.
Send comments to The Honorable Annette Kolis-Mandel, Mayor, City of Creve Coeur, 300 North New Ballas Road, Creve Coeur, Missouri 63141.
Missouri | Des Peres (City) St. Louis County | Des Peres Creek | At confluence with Sugar Creek | *448 | *450
|  |  | Approximately 450 feet upstream of Hospital Drive | *460 | *459
|  | Sugar Creek | Approximately 1,150 feet downstream of Old Dougherty Ferry Road | *445 | *446
|  |  | Just upstream of Interstate 270 | *463 | *462
Maps are available for inspection at City Hall, 12325 Manchester Road, Des Peres, Missouri.
Send comments to The Honorable Sharon Burkhardt, Mayor, City of Des Peres, 12325 Manchester Road, Des Peres, Missouri 63131.
Missouri | Frontenac (City) St. Louis County | Deer Creek | Just upstream of Lindbergh Boulevard | *523 | *524
|  |  | Approximately 3,300 feet upstream of Spoede Road | *541 | *542
|  | Monsanto Sunswept Creek | Approximately 400 feet downstream of Glen Abbey Road | *527 | *528
|  |  | Approximately 180 feet upstream of Glen Abbey Road | *527 | *528
Maps are available for inspection at City Hall, 10555 Clayton Road, Frontenac, Missouri.
Send comments to The Honorable Mark C. Brennan, Mayor, City of Frontenac, 10555 Clayton Road, Frontenac, Missouri 63131.
Missouri | Kirkwood (City) St. Louis County | Sugar Creek | Just upstream of Interstate 270 | *463 | *462
|  |  | Approximately 150 feet upstream of Interstate 270 | *463 | *462
Maps are available for inspection at City Hall, 139 South Kirkwood Road, Kirkwood, Missouri.
Send comments to The Honorable Marge Schramm, Mayor, City of Kirkwood, 139 South Kirkwood Road, Kirkwood, Missouri 63122.
Missouri | St. Louis County (Unincorporated Areas) | Grand Glaize Creek | Approximately 400 feet upstream of Dougherty Ferry Road | *441 | *442
|  |  | Approximately 3,000 feet upstream of Dougherty Ferry Road | *445 | *446
Maps are available for inspection at the Department of Planning, 41 South Central Avenue, Clayton, Missouri.
Send comments to The Honorable Buzz Westfall, St. Louis County Executive, 41 South Central Avenue, Clayton, Missouri 63105.
Missouri | Valley Park (City) St. Louis County | Grand Glaize Creek | Grand Glaize Creek
Maps are available for inspection at City Hall, 320 Benton Street, Valley Park, Missouri.
Send comments to The Honorable Daniel Adams, Mayor, City of Valley Park, City Hall, 320 Benton Street, Valley Park, Missouri 63088.
Missouri | Westwood (Village) St. Louis County | Deer Creek | Approximately 3,300 feet upstream of Spoede Road | *541 | *542
|  |  | Approximately 4,500 feet upstream of Spoede Road | None | *549
Maps are available for inspection at 9 Westwood Country Club Ground Road, Westwood, Missouri.
Send comments to The Honorable Phillip Isserman, Chairman, Board of Trustees, Village of Westwood, 9 Westwood Country Club Gardens, Westwood, Missouri 63131.
Nevada | Washoe County and Incorporated Areas | Golden Valley Wash | Approximately 2,180 feet upstream of Tholl Drive | None | 4,981
|  |  | Approximately 2,700 feet upstream of Spearhead Way | None | *5,176
|  | Hidden Valley Wash | Approximately 1,800 feet upstream of its confluence with Steamboat Creek | None | *4,442
|  |  | Approximately 3,420 feet upstream of Parkway Drive | None | *4,647
|  | Sun Valley Wash | At the Sun Valley Flood Control Detention Dam | *4,445 | *4,548
|  |  | At East 7th Avenue | None | *4,725
|  | Sun Valley Wash Split Flow | At convergence with Sun Valley Wash | None | 4,647
|  |  | At divergence from Sun Valley Wash | None | *4,695
Maps are available for inspection at Washoe County Engineering Department, 1001 E. 9th Street, Reno, Nevada.
Send comments to The Honorable Jim Galloway, Commission Chairman, P.O. Box 11130, Reno, Nevada 89520.
Maps are available for inspection at Engineering Department, 431 Prater Way, Sparks, Nevada.
Send comments to The Honorable Tony Armstrong, Mayor, City of Sparks, 431 Prater Way, Sparks, Nevada 89431.
North Dakota | Fargo (City) Cass County | County Drain 45 | At County Road 14 (52nd Avenue) | None | *893
|  |  | Approximately 2,800 feet upstream of 19th Avenue | None | *894
Maps are available for inspection at City Hall, 200 N. 3rd Street, Fargo, North Dakota.
Send comments to The Honorable Bruce Furness, Mayor, City of Fargo, 200 N. 3rd Street, Fargo, North Dakota 58102.
North Dakota | Harwood (City) Cass County | Sheyenne River | At U.S. Highway 81 | None | *891
|  |  | Approximately 7,600 feet upstream from County Highway 22 | None | *894
|  | County Drain 40/45 | Approximately 3,600 feet downstream from County Highway 22 | None | *890
|  |  | Approximately 1,200 feet upstream from County Drain 40/45 split | None | *897
Maps are available for inspection at City Hall, 202 Dakota Avenue, Harwood, North Dakota.
Send comments to The Honorable Garry Roth, Mayor, City of Harwood, 108 Lind Boulevard, Harwood, North Dakota 58042.
North Dakota | Reed (Township) Cass County | Sheyenne River | Approximately 7,400 feet downstream of County Road 17 | *893 | *894
|  |  | At 52nd Avenue | *895 | *896
|  |  | Approximately 1,600 feet upstream of its confluence with County Drain 21 | *898 | *898
|  | County Drain 21 | At confluence with the Sheyenne River | *898 | *898
|  |  | Approximately 900 feet upstream of its confluence with the Sheyenne River | None | *898
|  | County Drain 45 | Approximately 5,800 feet downstream of 52nd Avenue | None | *893
|  |  | At County Road 20 | None | *893
|  | Maple River | At its confluence with the Sheyenne River | None | *897
|  |  | Approximately 480 feet upstream of its confluence with the Sheyenne River | None | *897
Maps are available for inspection at City Hall, 7420 40th Avenue North, Fargo, North Dakota.
Send comments to The Honorable Gene Johnson, Mayor, Reed Township, 7420 40th Avenue North, Fargo, North Dakota 58103.
North Dakota | Reiles Acres (City) Cass County | County Drain 45 | Approximately 5,400 feet downstream from 32nd Avenue | None | *893
|  |  | Approximately 3,000 feet upstream from 32nd Avenue | None | *893
Maps are available for inspection at 3348 45th Street N.W., Reiles Acres, North Dakota.
Send comments to The Honorable David Baumann, Mayor, City of Reiles Acres, 3545 46th Street N.W., Fargo, North Dakota 58108.
North Dakota | West Fargo (City) Cass County | Sheyenne River | Approximately 8,700 feet downstream from 19th Avenue | None | *898
|  |  | At confluence with County Drain 2 | None | *899
|  | County Drain 21 | Approximately 1,400 feet downstream from Township Road | *898 | *898
|  |  | At divergence of County Drain 21 outlet structure | None | *899
Maps are available for inspection at City Hall, 800 4th Avenue East, West Fargo, North Dakota.
Send comments to The Honorable David Stedman, Mayor, City of West Fargo, 800 4th Avenue East, West Fargo, North Dakota 58078.
South Dakota | North Sioux (City) Union County | Big Sioux River | Approximately 5,900 feet downstream from Military Road | *1,100 | *1,101
|  |  | Approximately 7,425 feet upstream from the Chicago Milwaukee St. Paul and Pacific Railroad | *1,109 | *1,108
|  | Big Sioux River Split at Interstate 29 | Approximately 50 feet downstream from Westshore Drive | None | *1,109
|  |  | At divergence from Big Sioux River | None | *1,110
Maps are available for inspection at City Hall, 301 Military Road, North Sioux City, South Dakota.
Send comments to The Honorable Lieser Hallwas, Mayor, P.O. Box 338 North Sioux City, South Dakota 57049.
South Dakota | Union County (Unincorporated Areas) | Big Sioux River | At mouth of Big Sioux River | *1,090 | *1,090
|  |  | At Interstate 29 | None | *1,094
|  |  | At State Route 48 | None | *1,143
|  |  | Approximately 1,800 feet downstream of Westshore Drive | None | *1,108
|  | Big Sioux River Split at Interstate 29 | At divergence from Big Sioux River | None | *1,110
Maps are available for inspection at Union County Planning and Zoning Office, 209 East Main, Elk Point, South Dakota.
Send comments to The Honorable Roger Boldenow, Chairman, Union County Commissioners, County Courthouse, 209 East Main Street, Elk Point, South Dakota 57025.
Texas | Gillespie County and Incorporated Areas | Baron's Creek | Approximately 4,000 feet upstream of U.S. Highway 290 | *1,611 | *1,611
|  |  | Approximately 4,200 feet upstream of U.S. Highway 290 | *1,611 | *1,612
|  |  | Downstream of East Main Street | *1,649 | *1,650
|  | Stream FB-1 | At confluence with Baron's Creek | *1,641 | *1,641
|  |  | Approximately 1,500 feet upstream of confluence with Baron's Creek | *1,646 | *1,647
|  |  | Approximately 1,950 feet upstream of Lower Crabapple Road | None | *1,780
|  | Town Creek | Approximately 60 feet downstream of Edison Street | *1,710 | *1,710
|  |  | Approximately 200 feet upstream of Schubert Road | *1,712 | *1,711
|  |  | Approximately 2,150 feet upstream of Morse Street | None | *1,751
|  | Pedernales River | At Gillespie/Blanco County Line | None | *1,398
|  |  | Approximately 3,100 feet upstream of Cellemar Lane | None | *1,473
|  | Salt Branch | At confluence with Pedernales River | None | *1,442
|  |  | Approximately 4,300 feet upstream of Highway 290 | None | *1,473
|  | Stream SB-1 | At confluence with Salt Branch | None | *1,444
|  |  | Approximately 5,800 feet upstream of Highway 290 | None | *1,465
|  | Split Flow #1 | At convergence with Pedernales River | None | *1,422
|  |  | At divergence from Pedernales River | None | *1,435
Maps are available for inspection at City Hall, 126 W. Main Street, Fredericksburg, Texas.
Send comments to The Honorable Linda Langerhans, Mayor, City of Fredericksburg, P.O. Box 111, Fredericksburg, Texas 78624.
Maps are available for inspection at Gillespie County Floodplain Department, 101 West Main, Unit #9, Fredericksburg, Texas.
Send comments to The Honorable Mark Stroeher, County Judge, 101 West Main, Unit #9, Fredericksburg, Texas 78624.
Texas | Tom Green County (Unincorporated Areas) | Red Arroyo | Just downstream of eastbound Route 67 | None | *1,888
|  |  | Approximately 1,300 feet upstream of earthen lake dam | None | *1,987
|  | Stream RA-1 | At confluence with Red Arroyo | None | *1,897
|  |  | Just downstream of O.C. Fisher Dam spillway | None | *1,928
|  | Stream RA-2 | At confluence with Red Arroyo | None | *1,898
|  |  | Just upstream of Arden Road | None | *1,941
|  | Goodfellow Draw | 120 feet downstream of Stock Tank Dam | None | *1,805
|  |  | 790 feet upstream of Stock Tank Dam | None | *1,810
Maps are available for inspection at the Public Health Building, Two City Hall Plaza, San Angelo, Texas.
Send comments to The Honorable Michael D. Brown, Judge, Tom Green County, County Courthouse, 112 West Beauregard Street, San Angelo, Texas 76902.
Washington | Whatcom County and Incorporated Areas | Johnson Creek | At the confluence with Sumas River | None | *38
|  |  | Approximately 1,500 feet upstream of South Pass Road | None | *85
|  | Nooksack River | At Bellingham Bay | None | *8
|  |  | Approximately 600 feet downstream of Burlington Northern Railroad, at the confluence with South Fork | *226 | *222
|  | Nooksack River Right Overbank Divided Flow | At Lummi Bay | None | *8
|  |  | Approximately 800 feet upstream of River Road | None | *26
|  | Middle Fork Nooksack River | At the confluence with North Fork Nooksack River | None | *284
|  |  | Approximately 11,500 feet upstream of the confluence of Canyon Creek | None | *406
|  | North Fork Nooksack River | At the confluence with South Fork Nooksack River | None | *222
|  |  | Approximately 35,600 feet (7 miles) upstream from Mosquito Lake Road | None | *466
|  | South Fork Nooksack River | At the confluence with North Fork Nooksack River | *226 | *222
|  |  | Approximately 7,400 feet upstream of Saxon Road | *386 | *385
| Whatcom County Incorporated Areas (Cont'd) | South Fork Nooksack River Divided Flow | At Burlington Northern Railroad | None | *246
|  |  | At Acme Road | None | *280
|  | Samish River | Approximately 2,900 feet downstream of Wickersham Road at the County Boundary | None | *267
|  |  | At Burlington Northern Railroad | None | *311
|  | Squalicum Creek | Approximately 200 feet upstream of Chicago, Milwaukee, St. Paul and Pacific Railroad | None | *127
|  |  | Approximately 2,000 feet upstream of Dewey Road | None | *206
|  | Sumas River | Approximately 1,700 feet downstream of Jones Road at the International Boundary | None | *34
|  |  | Approximately 1,000 feet upstream of Massey Road | None | *93
|  | Sumas River Left Overbank Divided Flow | Approximately 200 feet downstream of Telegraph Road | None | *56
|  |  | Approximately 6,300 feet upstream of Kadin Road | None | *69
|  | Terrell Creek | Approximately 500 feet downstream of Alderson Road | None | *8
|  |  | At Helweg Road | None | *10
Maps are available for inspection at Whatcom County Public Works Department, Division of Engineering, 5280 NW Drive, Suite C, Bellingham, Washington.
Send comments to The Honorable Pete Kremen, County Executive, 311 Grand Avenue #108, Bellingham, Washington 98225.
Maps are available for inspection at the Community Development Department, 210 Lottie Street, Bellingham, Washington.
Send comments to The Honorable Mark Asmundson, Mayor, City of Bellingham, 210 Central Avenue, Bellingham, Washington 98225.
Maps are available for inspection at City Hall, 111 W. Main Street, Everson, Washington.
Send comments to The Honorable Gena Tolle, Mayor, P.O. Box 315, Everson, Washington 98247.
Maps are available for inspection at the Planning Department, 5694 2nd Avenue, Ferndale, Washington.
Send comments to The Honorable Yvonne Goldsmith, Mayor, City of Ferndale, 5694 2nd Avenue, Ferndale, Washington 98248.
Maps are available for inspection at the Planning Department 2828 Kwina Road, Bellingham, Washington.
Send comments to The Honorable Tim Ballew, Tribal Chair, City of Lummi Indian Nation, 2626 Kwina Road, Bellingham, Washington 98226.
Maps are available for inspection at the Planning Department, 323 Front Street, Lynden, Washington.
Send comments to The Honorable Daryl Brennick, Mayor, City of Lynden, 323 Front Street, Lynden, Washington 98264.
Maps are available for inspection at City Hall, 103 W. Madison Street, Nooksack, Washington 98276.
Send comments to The Honorable James S. Ackerman, Mayor, City of Nooksack, P.O. Box 4265, Nooksack, Washington 98276.
Maps are available for inspection at City Hall, 433 Cherry Street, Sumas, Washington 98295.
Send comments to The Honorable Don Peterson, Mayor, City of Sumas, P.O. Box 9 Sumas, Washington 98295.

(Catalog of Federal Domestic Assistance No. 83.100, “Flood Insurance.”)
Dated: January 28, 2000.
Michael J. Armstrong,
Associate Director for Mitigation.

[FR Doc. 00-2805 Filed 2-7-00; 8:45 am]

BILLING CODE 6718-04-P